COMMITTEE FOR THE IMPLEMENTATION OF TEXTILE AGREEMENTS

Denial of Commercial Availability Request under the Andean Trade Promotion and Drug Eradication Act (ATPDEA)

October 26, 2004.

AGENCY: The Committee for the Implementation of Textile Agreements (CITA).

ACTION: Denial of the request alleging that certain polyester monofilament yarn, for use in women's and children's apparel, cannot be supplied by the domestic industry in commercial quantities in a timely manner under the AGOA.

SUMMARY: On August 23, 2004, the Chairman of CITA received a petition from Textiles Erre Emme Ltda. of Bogota, Colombia, alleging that certain polyester monofilament texturized, raw, white yarn, of denier 20D/F1, classified in subheading 5402.33.30 of the Harmonized Tariff Schedule of the United States (HTSUS), for use in women's and children's apparel, cannot be supplied by the domestic industry in commercial quantities in a timely manner, and requesting that such apparel made from such yarn be eligible for preferential treatment under the ATPDEA. Based on currently available information, CITA has determined that these subject yarns can be supplied by the domestic industry in commercial quantities in a timely manner and therefore denies the request.

FOR FURTHER INFORMATION CONTACT: Shikha Bhatnagar, International Trade Specialist, Office of Textiles and Apparel, U.S. Department of Commerce, (202) 482-3400.

SUPPLEMENTARY INFORMATION:

Authority: Section 204 (b)(3)(B)(ii) of the ATPDEA, Presidential Proclamation 7616 of October 31, 2002, Executive Order 13277 of November 19, 2002, and the United States Trade Representative's Notice of Further Assignment of Functions of November 25, 2002.

Background

The ATPDEA provides for quota- and duty-free treatment for qualifying textile and apparel products. Such treatment is generally limited to products manufactured from yarns and fabrics formed in the United States or a beneficiary country. The ATPDEA also provides for quota- and duty-free treatment for apparel articles that are both cut (or knit-to-shape) and sewn or otherwise assembled in one or more ATPDEA beneficiary countries from fabric or yarn that is not formed in the United States or a beneficiary country, if it has been determined that such fabric or yarn cannot be supplied by the domestic industry in commercial quantities in a timely manner. Pursuant to Executive Order No. 13277 (67 FR 70305) and the United States Trade Representative's Notice of Redelegation of Authority and Further Assignment of Functions (67 FR 71606), the President's authority to determine whether yarns or fabrics cannot be supplied by the domestic industry in commercial quantities in a timely manner under the ATPDEA has been delegated to CITA.

On August 23, 2004, the Chairman of CITA received a petition from Textiles Erre Emme Ltda of Bogota, Colombia, alleging that certain polyester monofilament texturized, raw, white yarn, of denier 20D/F1, classified in subheading 5402.33.30 of the Harmonized Tariff Schedule of the United States (HTSUS), for use in women's and children's apparel, cannot be supplied by the domestic industry in commercial quantities in a timely manner. The petitioner requested quota- and duty-free treatment under the ATPDEA for such apparel that are woven or knit in one or more ATPDEA beneficiary countries from such yarn.

On August 31, 2004, CITA solicited public comments regarding this request, particularly with respect to whether these yarns can be supplied by the domestic industry in commercial quantities in a timely manner. On September 16, 2004, CITA and USTR offered to hold consultations with the Senate Finance Committee and the House Ways and Means Committee. Neither Committee has requested consultations on this request. We also requested the advice of the U.S. International Trade Commission and the relevant Industry Trade Advisory Committees.

CITA has determined that certain polyester monofilament texturized, raw, white yarn, of denier 20D/F1, classified in subheading 5402.33.30 of the Harmonized Tariff Schedule of the United States (HTSUS), for use in women's and children's apparel can be supplied by the domestic industry in commercial quantities in a timely manner. Textiles Erre Emme Ltda.'s request is denied.

D. Michael Hutchinson,
Acting Chairman, Committee for the Implementation of Textile Agreements.

[FR Doc.E4-2913 Filed 10-28-04; 8:45 am]

BILLING CODE 3510-DR-S